DEPARTMENT OF HOMELAND SECURITY

[Docket No. DHS-2012-0004]

President's National Security Telecommunications Advisory Committee

AGENCY: National Protection and Programs Directorate, DHS.

ACTION: Committee Management; Notice of an Open Federal Advisory Committee Teleconference.

SUMMARY: The President's National Security Telecommunications Advisory Committee (NSTAC) will meet on Tuesday, February 28, 2012, via a conference call. The meeting will be open to the public.

DATES: The NSTAC will meet Tuesday, February 28, 2012, from 2 p.m. to 3:15 p.m. Please note that the meeting may close early if the committee has completed its business.

ADDRESSES: The meeting will be held via a conference call. For access to the conference bridge, contact Ms. Deirdre Gallop-Anderson by email at deirdre.gallop-anderson@dhs.gov by 5 p.m. on February 21, 2012.

To facilitate public participation, we are inviting public comment on the issues to be considered by the committee as listed in the “Supplementary Information” section below. Documents associated with the issues to be discussed during the conference call are available at www.ncs.gov/nstac for review prior to the call. Written comments must be received by the NSTAC Designated Federal Officer no later than March 14, 2012, and must be identified by “DHS-2012-0004” and may be submitted by any one of the following methods:

• Federal eRulemaking Portal: http://www.regulations.gov. Follow the instructions for submitting written comments.

• Email: NSTAC@hq.dhs.gov. Include the docket number in the subject line of the email message.

• Fax: (703) 235-4981.

• Mail: Deputy Manager, National Communications System, Office of Cybersecurity and Communications, National Protection and Programs Directorate, Department of Homeland Security, 245 Murray Lane, Mail Stop 0615, Arlington, VA 20598-0615.

Instructions: All written submissions received must include the words “Department of Homeland Security” and the docket number for this action. Written comments received will be posted without alteration at http://www.regulations.gov, including any personal information provided.

Docket: For access to the docket, including all documents and comments received by the NSTAC, go to http://www.regulations.gov.

A public comment period will be held during the meeting on February 28, 2012, from 2:45 p.m. to 3:15 p.m. Speakers that wish to participate in the public comment period must register in advance no later than February 21, 2012 at 5 p.m. by emailing Deirdre Gallop-Anderson at deirdre.gallop-anderson@dhs.gov. Speakers are requested to limit their comments to 3 minutes and will speak in order of registration as time permits. Please note that the public comment period may end before the time indicated, following the last call for comments.

FOR FURTHER INFORMATION CONTACT: Allen F. Woodhouse, NSTAC Designated Federal Officer, Department of Homeland Security, telephone (703) 235-4900.

SUPPLEMENTARY INFORMATION: Notice of this meeting is given under the Federal Advisory Committee Act (FACA), 5 U.S.C. App. (Pub. L. 92-463). The NSTAC advises the President on matters related to national security and emergency preparedness telecommunications policy.

During the conference call, the NSTAC members will receive a quarterly update on NSTAC Recommendations from Mr. Gregory Schaffer, Assistant Secretary for Cybersecurity and Communications, an update on the Cloud Computing Subcommittee from Mr. Mark McLaughlin, Chair of the Cloud Computing Subcommittee, and an update on the National Public Safety Broadband Network scoping effort from Mr. Scott Charney and Mr. Michael Laphen, Co-Chairs of the National Public Safety Broadband Network Subcommittee.

Dated: February 2, 2012.
Allen F. Woodhouse,
Designated Federal Officer for the NSTAC.

[FR Doc. 2012-2934 Filed 2-8-12; 8:45 am]

BILLING CODE 9110-09-P